DEPARTMENT OF ENERGY

Federal Energy Regulatory Commission

[Docket Nos. CP04-395-000, CP04-405-000, CP04-406-000, and CP04-407-000]

Vista del Sol LNG Terminal, L.P.; Vista del Sol Pipeline, L.P.; Notice of Applications

September 8, 2004.

Take notice that on August 10, 2004, Vista del Sol LNG Terminal, L.P. (Vista del Sol LNG) filed an application seeking authorization to site, construct, and operate a liquefied natural gas (LNG) terminal with a send-out capacity of 1.1 Bcf/day to be located near Ingleside, Texas. The LNG terminal will provide LNG tanker terminal services to third party shippers who would be importing LNG. Vista del Sol LNG made the request to site, construct and operate the LNG terminal pursuant to section 3(a) of the Natural Gas Act and Part 153 of the Commission's regulations.

Also take notice that on August 27, 2004, Vista del Sol Pipeline, L.P. (Vista del Sol Pipeline) filed an application seeking a certificate of public convenience and necessity, pursuant to section 7(c) of the NGA and Part 157, Subpart A of the Commission's Regulations, to construct and operate a 25 mile, 36-inch diameter pipeline and related facilities in San Patricio County, Texas, to transport up to 1.4 Bcf/day of natural gas on an open access basis (Docket No. CP04-405-000). Vista del Sol Pipeline is an affiliate of Vista del Sol LNG. Also, in Docket No. CP04-406-000, Vista del Sol Pipeline requests a blanket certificate under section 7(c) of the NGA and Part 157, Subpart F of the Commission's regulations to perform routine activities in connection with the future construction, operation and maintenance of the proposed 25 mile pipeline. Finally, Cheniere Sabine requested authorization in Docket No. CP04-407-000 to provide the natural gas transportation services on a firm and interruptible basis pursuant to section 7(c) of the NGA and Part 284 of the Commission's Regulations.

These applications are on file with the Commission and open to public inspection. These filings are available for review at the Commission in the Public Reference Room or may be viewed on the Commission's website at http://www.ferc.gov using the “eLibrary” link. Enter the docket number excluding the last three digits in the docket number field to access the document. For assistance, please contact FERC Online Support at FERCOnlineSupport@ferc.gov or toll free at (866) 208-3676, or for TTY, contact (202) 502-8659.

In Docket No. PF04-3-000, Vista del Sol LNG and Vista del Sol Pipeline participated in a pre-filing National Environmental Policy Act review of its proposed project to identify and resolve potential landowner and environmental problems before the application was filed.

Any initial questions regarding these applications should be directed to James K. Hanrahan, ExxonMobil Gas & Power Marketing Company, 800 Bell Street, Room 3605M, Houston, Texas, 77002-2180 at (713) 656-8602 or by fax at (713) 656-2388 or Kevin M. Sweeney, John & Hengerer, 1200 17th Street, NW., Suite 600, Washington, DC, 20036 at (202) 429-8802 or by fax at (202) 429-8805.

There are two ways to become involved in the Commission's review of this project. First, any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the internet in lieu of paper; see, 18 CFR 385.2001(a)(1)(iii) and the instructions on the Commission's web site under the “e-Filing” link. The Commission strongly encourages electronic filings.

Comment Date: September 29, 2004.

Magalie R. Salas,
Secretary.

[FR Doc. E4-2191 Filed 9-14-04; 8:45 am]

BILLING CODE 6717-01-P